SOCIAL SECURITY ADMINISTRATION

[Docket No: SSA-2018-0013]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov

(SSA), Social Security Administration, OLCA, Attn: Reports Clearance Director, 3100 West High Rise, 6401 Security Blvd., Baltimore, MD 21235, Fax: 410-966-2830, Email address: OR.Reports.Clearance@ssa.gov

Or you may submit your comments online through www.regulations.gov, referencing Docket ID Number [SSA-2018-0013].

I. The information collection below is pending at SSA. SSA will submit it to OMB within 60 days from the date of this notice. To be sure we consider your comments, we must receive them no later than June 4, 2018. Individuals can obtain copies of the collection instrument by writing to the above email address.

Statement of Reclamation Action—31 CFR 210—0960-0734. Regulations governing the Federal Government Participation in the Automated Clearing House: (1) Allow SSA to send Social Security payments to Canada; and (2) mandate the reclamation of funds paid erroneously to a Canadian bank, or financial institution, after the death of a Social Security beneficiary. SSA uses Form SSA-1713, Notice of Reclamation Action, to determine if, how, and when the Canadian bank or financial institution is going to return erroneous payments after the death of a Social Security beneficiary who elected to have payments sent to Canada. Form SSA-1712 (or SSA-1712 CN), Notice of Reclamation—Canada Payment Made in the United States, is the cover sheet SSA prepares to request return of the payment. The respondents are Canadian banks and financial institutions who erroneously received Social Security payments.

Type of Request: Revision of an OMB-approved information collection.

Modality of completion | Number of respondents | Frequency of response | Average burden per response (minutes) | Estimated total annual burden (hours)
SSA-1712 | 8 | 1 | 5 | 1
SSA-1713 | 7 | 1 | 5 | 1
Totals | 15 |  |  | 2

II. SSA submitted the information collections below to OMB for clearance. Your comments regarding these information collections would be most useful if OMB and SSA receive them 30 days from the date of this publication. To be sure we consider your comments, we must receive them no later than May 3, 2018. Individuals can obtain copies of the OMB clearance packages by writing to OR.Reports.Clearance@ssa.gov.

1. Application for Mother's or Father's Insurance Benefits—20 CFR 404.339-404.342, and 20 CFR 404.601-404.603—0960-0003. Section 202(g) of the Social Security Act (Act) provides for the payment of monthly benefits to the widow or widower of an insured individual if the surviving spouse is caring for the deceased worker's child (who is entitled to Social Security benefits). SSA uses the information on Form SSA-5-BK to determine an individual's eligibility for mother's or father's insurance benefits. The respondents are individuals caring for a child of the deceased worker who is applying for mother's or father's insurance benefits under the Old Age, Survivors, and Disability Insurance program.

Type of Request: Revision of an OMB-approved information collection.

Modality of completion | Number of respondents | Frequency of response | Average burden per response (minutes) | Estimated total annual burden (hours)
SSA-5-F6 (paper) | 6,542 | 1 | 15 | 1,636
Modernized Claims System | 42,175 | 1 | 15 | 10,544
Totals | 48,717 |  |  | 12,180

2. Certification by Religious Group—20 CFR 404.1075—0960-0093. SSA is responsible for determining whether religious groups meet the qualifications exempting certain members and sects from payment of Self-Employment Contribution Act taxes under the Internal Revenue Code, Section 1402(g). SSA sends Form SSA-1458, Certification by Religious Group, to a group's authorized spokesperson to complete and verify organizational members meet, or continue to meet, the criteria for exemption. The respondents are spokespersons for religious groups or sects.

Type of Request: Revision of an OMB-approved information collection.

Modality of completion | Number of respondents | Frequency of response | Average burden per response (minutes) | Estimated total annual burden (hours)
SSA-1458 | 180 | 1 | 15 | 45

3. Claim for Amounts Due in the Case of a Deceased Beneficiary—20 CFR 404.503(b)—0960-0101. Section 204(d) of the Act provides that if an individual dies before payment under Title II is complete, SSA will pay the amount due (including the amount of any check not negotiated) to persons meeting specified qualifications. When a Social Security payment was due to a deceased beneficiary at the time of death, and there is insufficient information in the file to identify the individuals entitlement to the payment, or the individual's address, SSA asks the surviving spouse, next of kin, or legal representative of the estate to complete Form SSA-1724, Claim for Amounts Due in the Case of a Deceased Social Security Recipient. SSA collects the information when a surviving child (or children), parent, or spouse is not already entitled to a monthly benefit on the same earnings record, or is not filing for a lump-sum death payment as a former spouse. SSA uses the information Form SSA-1724 provides to ensure proper payment of an underpayment due to a deceased beneficiary. The respondents are applicants for underpayments owed to deceased beneficiaries.

Type of Request: Revision of an OMB-approved information collection.

Modality of completion | Number of respondents | Frequency of response | Average burden per response (minutes) | Estimated total annual burden (hours)
SSA-1724 | 250,000 | 1 | 10 | 41,667

4. Prohibition of Payment of SSI Benefits to Fugitive Felons and Parole/Probation Violators—20 CFR 416.708(o)—0960-0617. Section 1611(e)(4) of the Act precludes eligibility for Supplemental Security Income (SSI) payments for certain fugitives and parole or probation violators. Regulations at 20 CFR 416.708(o) of the Code of Federal Regulations require individuals applying for, or receiving, SSI to report to SSA that: (1) They are fleeing to avoid prosecution for a crime; (2) they are fleeing to avoid custody or confinement after conviction of a crime; or (3) they are violating a condition of probation or parole. SSA uses the information we receive to deny eligibility, or suspend recipients' SSI payments. The respondents are SSI applicants and recipients, or representative payees of SSI applicants and recipients, who are reporting their status as a fugitive felon or probation or parole violator.

Type of Request: Revision of an OMB-approved information collection.

Modality of completion | Number of respondents | Frequency of response | Average burden per response (minutes) | Estimated total annual burden (hours)
SSI Claim System Screens | 1,000 | 1 | 1 | 17

5. Identifying Information for Possible Direct Payment of Authorized Fees—0960-0730. SSA collects information from claimants' appointed representatives on Form SSA-1695 to: (1) Process and facilitate direct payment of authorized fees; (2) issue a Form 1099-MISC, if applicable; and (3) establish a link between each claim for benefits and the data we collect on the SSA-1699 for our appointed representative database. The respondents are attorneys and other individuals who represent claimants for benefits before SSA.

Type of Request: Revision of an OMB approved information collection.

Modality of completion | Number of respondents | Frequency of response | Number of respondents | Average burden per response (minutes) | Estimated total annual burden (hours)
SSA-1695 | 10,000 | 40 | 400,000 | 10 | 66,667

Dated: March 28, 2018.
Naomi R. Sipple,
Reports Clearance Officer, Social Security Administration.

[FR Doc. 2018-06689 Filed 4-2-18; 8:45 am]

BILLING CODE 4191-02-P